DEPARTMENT OF TRANSPORTATION

Federal Aviation Administration

14 CFR Part 71

[Docket No. FAA-2018-0787; Airspace Docket No. 18-ASW-12]

RIN 2120-AA66

Establishment of Class E Airspace; Coushatta, LA

AGENCY: Federal Aviation Administration (FAA), DOT.

ACTION: Final rule, correction.

SUMMARY: This action corrects a final rule published in the Federal Register of March 1, 2019, that establishes Class E airspace at The Red River Airport, Coushatta, LA. The geographic coordinates of the airport will be amended to be in concert with the FAA's aeronautical database.

DATES: Effective date 0901 UTC, April 25, 2019. The Director of the Federal Register approves this incorporation by reference action under Title 1 Code of Federal Regulations part 51, subject to the annual revision of FAA Order 7400.11 and publication of conforming amendments.

FOR FURTHER INFORMATION CONTACT: Rebecca Shelby, Federal Aviation Administration, Operations Support Group, Central Service Center, 10101 Hillwood Parkway, Fort Worth, TX 76177; telephone (817) 222-5857.

SUPPLEMENTARY INFORMATION:

History

The FAA published a final rule in the Federal Register for Docket No. FAA-2018-0787 (84 FR 6965, March 1, 2019), establishing Class E airspace at The Red River Airport, Coushatta, LA. Subsequent to publication, the FAA identified an error that the geographic coordinates of the airport need to be amended to be in concert with the FAA's aeronautical database. This correction changes the coordinates from “(lat. 31°59′25″ N, long. 093°18′40″ W)” to read “(lat. 31°59′25″ N, long. 093°18′27″ W)”

Correction to Final Rule

Accordingly, pursuant to the authority delegated to me, in the Federal Register of March 1, 2019 (84 FR 6965) FR Doc. 2019-03615, Establishment of Class E Airspace; Coushatta, LA, is corrected as follows:

§ 71.1 [Amended]

ASW LA E5 Coushatta, LA [Corrected]

On page 6966, column 1, line 37; remove “(lat. 31°59′25″ N, long. 093°18′40″ W)” and add in its place “(lat. 31°59′25″ N, long. 093°18′27″ W)”.

Issued in Fort Worth, Texas, on April 4, 2019.
John Witucki,
Acting Manager, Operations Support Group, Central Service Center.

[FR Doc. 2019-07600 Filed 4-17-19; 8:45 am]

BILLING CODE 4910-13-P